DEPARTMENT OF STATE

[Public Notice: 12183]

60-Day Notice of Proposed Information Collection: Individual, Corporate or Foundation, and Government Donor Form

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 13, 2023.

ADDRESSES: You may submit comments by the following methods:

• Web: Persons with access to the internet may comment on this notice by going to www.Regulations.gov. You can search for the document by entering “Docket Number: DOS-2023-0030” in the Search field. Then click the “Comment Now” button and complete the comment form.

• Email: wallacecr2@state.gov.

• Regular Mail: Send written comments to: CGFS/EDCS U.S. Department of State, 2201 C Street NW, Room 1821, Washington, DC 20520.

FOR FURTHER INFORMATION CONTACT: Direct requests for additional information regarding the collection listed in this notice, including requests for copies of the proposed collection instrument and supporting documents, to Chanel Wallace, who may be reached on (202) 647-7730 or at wallacecr2@state.gov.

SUPPLEMENTARY INFORMATION:

• Title of Information Collection: Individual, Corporate or Foundation and Government Donor Form.

• OMB Control Number: 1405-0218.

• Type of Request: Extension of a currently approved collection.

• Originating Office: CGFS/Office of Emergencies in the Diplomatic and Consular Service (EDCS).

• Form Number: Donor Form—Individual (DS-4273), Donor Form—Corporate or Foundation (DS-4272), Donor Form—Government (DS-4271).

• Respondents: Individuals, corporations, or foundations that make donations to the Department.

• Estimated Number of Respondents: 5,000.

• Estimated Number of Responses: 5,000.

• Average Time per Response: 10 minutes per form.

• Total Estimated Burden Time: 833 hours.

• Frequency: On occasion.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Office of Emergencies in the Diplomatic and Consular Service (EDCS) manages the solicitation and acceptance of gifts to the U.S. Department of State. The information requested via donor letters is a necessary first step to accepting donations. The information is sought pursuant to 22 U.S.C. 2697, 5 U.S.C. 7324 and 22 CFR part 3, and will be used by EDCS's Gift Fund Coordinator to demonstrate the donor's intention to donate either an in-kind or monetary gift to the Department. This information is mandatory and must be completed before the gift is received by the Department.

Methodology

The Department of State has the authority to accept gifts made for the benefit of the Department or for carrying out its functions. There are two types of gifts: in-kind, such as goods or services; and cash donations. The authorized requesting office must review the due diligence memorandum to make a determined judgment that soliciting and accepting a gift from a U.S. based or nonfederal entity would not case embarrassment or harm to the Department or its reputation. Once a donation is approved by the soliciting office, donors are granted access to the Departments appropriate donor form for completion. A donor will receive an electronic copy of the form from the program office once approved to partner or donation to the Department for official solicitation and acceptance. The donor is required to make all donations payable directly to the Department of State sent with a donor form to CGFS/EDCS.

CGFS/EDCS accepts payment in the form of checks or wire transfers, there are two methodologies for completing and submitting this form, as opposed to being done only electronically.

Option 1 (Electronically): The soliciting program officer will send the Donor Form electronically (retrieved from the Departments' internal myData Forms used for printing and electronic submissions) to recipients who will complete it and return to EDCS at MEDCS@state.gov. The donors submit their payments through the Global Financial Operations (CGFS/GFO) where they provide financial instructions for the remittance of Automated Clearing House (ACH) credits to the United States Department of State.

Option2: (Hard Copy): The soliciting program officer will send the Donor Form electronically and the donor will print and mail the form with a personal check or money order and return to EDCS by mail at 2201 C Street NW, Room 1821, Washington, DC 20520. CGFS/EDCS will deposit the donation in accordance with approved procedures, and the Bureau of Budget and Planning allots funds to the appropriate bureau.

Crystal F. Jobe,
Director, Gift Funds and K Fund Coordinator, CGFS/EDCS, Department of State.

[FR Doc. 2023-19698 Filed 9-12-23; 8:45 am]

BILLING CODE 4710-37-P